DEPARTMENT OF ENERGY

Federal Energy Regulatory Commission

Notice of Intent To File License Application, Filing of Pre-Application Document, and Approving Use of the Traditional Licensing Process

| Project Nos.
Midwest Hydro, LLC | 2347-051
Midwest Hydro, LLC | 2348-042
Midwest Hydro, LLC | 2373-012
STS Hydropower, LLC | 2446-051

a. Type of Filing: Notices of Intent to File License Applications and Request to Use the Traditional Licensing Process.

b. Project Nos.: 2347-051, 2348-042, 2373-012, and 2446-051.

c. Date Filed: August 30, 2019.

d. Submitted By: Eagle Creek Renewable Energy, LLC, on behalf of Midwest Hydro, LLC (Midwest Hydro) and STS Hydropower, LLC (STS Hydropower).

e. Name of Projects: Janesville Central, Beloit, Rockton, and Dixon Hydroelectric Projects.

f. Location: The four existing projects are located on the Rock River. The Dixon Project is located at river mile (RM) 87 in Lee and Ogle Counties, Illinois. The Rockton Project is located at RM 159 in Winnebago County, Illinois. The Beloit Project is located at RM 163 in Rock County, Wisconsin. The Janesville Central Project is located at RM 180 in Rock County, Wisconsin. No federal lands are occupied by the project works or located within the respective project boundaries.

g. Filed Pursuant to: 18 CFR 5.3 of the Commission's regulations.

h. Potential Applicant Contact: Michael Scarzello, Regulatory Director, Eagle Creek Renewable Energy, LLC, 116 N State Street, P.O. Box 167, Neshkoro, WI 54960‐0167; phone: 973-998-8400; email—Michael.Scarzello@eaglecreekre.com.

i. FERC Contact: Laura Washington at (202) 502-6072; or email at Laura.Washington@ferc.gov.

j. Midwest Hydro and STS Hydropower filed separate requests to use the Traditional Licensing Process on August 30, 2019. Midwest Hydro and STS Hydropower provided public notice of their requests on August 30, 2019. In a letter dated October 16, 2019, the Director of the Division of Hydropower Licensing approved the requests to use the Traditional Licensing Process.

k. With this notice, we are initiating informal consultation with the U.S. Fish and Wildlife Service and/or National Oceanic and Atmospheric Administration (NOAA) Fisheries under section 7 of the Endangered Species Act and the joint agency regulations thereunder at 50 CFR, part 402; and NOAA Fisheries under section 305(b) of the Magnuson-Stevens Fishery Conservation and Management Act and implementing regulations at 50 CFR 600.920. We are also initiating consultation the Wisconsin and Illinois State Historic Preservation Officers, as required by section 106, National Historical Preservation Act, and the implementing regulations of the Advisory Council on Historic Preservation at 36 CFR 800.2.

l. With this notice, we are designating Midwest Hydro and STS Hydropower as the Commission's non-federal representatives for carrying out informal consultation, pursuant to section 7 of the Endangered Species Act and section 305(b) of the Magnuson-Stevens Fishery Conservation and Management Act; and consultation pursuant to section 106 of the National Historic Preservation Act.

m. Midwest Hydro and STS Hydropower filed Pre-Application Documents (PAD); including a proposed process plan and schedule for each project with the Commission, pursuant to 18 CFR 5.6 of the Commission's regulations.

n. A copy of the PADs are available for review at the Commission in the Public Reference Room or may be viewed on the Commission's website (http://www.ferc.gov), using the “eLibrary” link. Enter the docket number, excluding the last three digits in the docket number field to access the document. For assistance, contact FERC Online Support at FERCONlineSupport@ferc.gov, (866) 208-3676 (toll free), or (202) 502-8659 (TTY). A copy is also available for inspection and reproduction at the address in paragraph h.

o. The licensees state their unequivocal intent to submit an application for a new license for Project Nos. 2347, 2348, 2373, and 2446. Pursuant to 18 CFR 16.8, 16.9, and 16.10, each application for a new license and any competing license applications must be filed with the Commission at least 24 months prior to the expiration of the existing license. All applications for license for these projects must be filed by August 31, 2022.

p. Register online at http://www.ferc.gov/docs-filing/esubscription.asp to be notified via email of new filings and issuances related to these or other pending projects. For assistance, contact FERC Online Support.

Dated: October 16, 2019.
Kimberly D. Bose,
Secretary.

[FR Doc. 2019-23004 Filed 10-21-19; 8:45 am]

BILLING CODE 6717-01-P